DEPARTMENT OF COMMERCE

National Oceanic and Atmospheric Administration

Notice of Availability of Final Management Plan and Final Environmental Assessment for Stellwagen Bank National Marine Sanctuary

AGENCY: Office of National Marine Sanctuaries (ONMS), National Ocean Service (NOS), National Oceanic and Atmospheric Administration (NOAA), Department of Commerce (DOC).

ACTION: Notice; notice of availability of a final management plan and final environmental assessment.

SUMMARY: On February 13, 2020, NOAA initiated a review of the Stellwagen Bank National Marine Sanctuary (SBNMS or the sanctuary) management plan to evaluate substantive progress toward implementing the goals of the sanctuary and to make revisions to the management plan as necessary to fulfill the purposes and policies of the NMSA. NOAA anticipated that management plan changes would require preparation of environmental analysis under the National Environmental Policy Act (NEPA), and initiated public scoping meetings to gather information and other comments from individuals, organizations, tribes, and government agencies on the scope, types, and significance of issues related to the SBNMS management plan and the proper scope of environmental analysis for the management plan review. NOAA is providing notice of availability of a final management plan and a final environmental assessment (EA) for SBNMS.

DATES: The final management plan and final environmental assessment are now available.

ADDRESSES: To obtain a copy of the final management plan, final environmental assessment, and finding of no significant impact (FONSI), contact the Management Plan Review Coordinator at Stellwagen Bank National Marine Sanctuary, Alice Stratton, 175 Edward Foster Road, Scituate, MA 02066, 203-882-6515, sbnmsmanagementplan@noaa.gov. Copies can also be downloaded from the Stellwagen Bank National Marine Sanctuary website at https://stellwagen.noaa.gov/management/.

FOR FURTHER INFORMATION CONTACT: Alice Stratton, 203-882-6515, sbnmsmanagementplan@noaa.gov.

SUPPLEMENTARY INFORMATION:

I. Background

SBNMS was designated in October 1992. It spans 842-square-miles (638-square-nautical-mile) at the mouth of Massachusetts Bay. The sanctuary boundary is somewhat rectangular, stretching from three miles southeast of Cape Ann to three miles north of Cape Cod. The sanctuary is about 25 miles east of Boston, and lies totally within Federal waters. It encompasses all of Stellwagen and Tillies Banks, and the southern portion of Jeffreys Ledge. SBNMS is administered by NOAA, within the U.S. Department of Commerce, and was designated to conserve, protect, and enhance the biodiversity, ecological integrity, and cultural legacy of marine resources for current and future generations. Sanctuary programs in education, conservation, science, and stewardship help protect SBNMS and its nationally-significant resources, while promoting public use and enjoyment through compatible human activities.

In 2016, NOAA completed an internal assessment of progress toward implementation of the 2010 management plan. The assessment found that 66% (69 of 104 activities) of the management plan's activities had been fully or partially completed or were still being implemented as ongoing functions, while 35% (36 of 104 activities) were not yet started or had been placed on hold. Results of the 2016 internal assessment were discussed at a public meeting of the sanctuary advisory council in October, 2016.

II. Management Plan Revisions

On February 13, 2020, NOAA published a notice in the Federal Register, initiating a review of SBNMS management plan and providing a notice of intent to conduct scoping to prepare an environmental analysis under NEPA (85 FR 8213). Pursuant to the National Marine Sanctuaries Act (NMSA), the management plan review process provides an opportunity to evaluate substantive progress toward implementing the goals of the sanctuary, and to make revisions to the management plan as necessary to fulfill the purposes and policies of the NMSA. The scoping process yielded feedback that was largely aligned with the 2020 condition report findings. Comments focused on NOAA's need to monitor and address potential emerging issues such as climate change and changes to water quality, to continue and expand protections for sanctuary resources, and to maintain core sanctuary research. Scoping comments also called for enhanced education and outreach efforts and increased capacity to administer sanctuary programs. NOAA incorporated the issues identified during the public scoping process into the draft management plan.

On November 30, 2021, NOAA published a notice in the Federal Register, announcing the availability of a public comment period for the SBNMS Draft Management Plan and Environmental Assessment SBNMS management plan. NOAA held two virtual public comment meetings (January 11, 2022 and January 12, 2022) to receive public input. During public comment, NOAA heard concerns from the environmental NGO community that the proposed changes in the sanctuary management plan would not adequately address declining sanctuary conditions. NOAA also heard concerns that the management plan should include more direct management actions, including regulations for fisheries management and reducing sound. In preparing the final Management Plan, NOAA evaluated and considered all public and agency comments and made several changes to the management plan in response to those comments.

The revised management plan contains 15 Action Plans addressing priority issues under four primary goals: ensure a thriving sanctuary, increase support for the sanctuary, deepen our understanding of sanctuary resources, and ensure coordinated support for sanctuary infrastructure, staff, and field operations. The revised management plan supports continued protection of sanctuary resources through enforcement of existing sanctuary regulations, education and outreach strategies that promote ocean stewardship, and community engagement.

The revised SBNMS management plan will result in changes to existing programs and policies to address contemporary issues and challenges, and to better protect and manage the sanctuary's resources and qualities. The management plan review process was composed of four major stages: (1) information collection and characterization; (2) preparation and release of a draft management plan and environmental document under NEPA; (3) public review and comment; and (4) preparation and release of a final management plan and environmental document. NOAA has also addressed other statutory and regulatory requirements, including those contained in the Endangered Species Act (ESA), Marine Mammal Protection Act, Essential Fish Habitat (EFH) provisions of the Magnuson-Stevens Fishery Conservation and Management Act (Magnuson-Stevens Act), Coastal Zone Management Act (CZMA), National Historic Preservation Act (NHPA), and tribal consultation responsibilities under Executive Order 13175.

A. Action Plans

This draft management plan contains 15 action plans which address priority issues for SBNMS. These action plans fall under four primary goals: ensure a thriving sanctuary, increase support for SBNMS, deepen our understanding of sanctuary resources, and ensure coordinated support for sanctuary infrastructure, staff, and field operations. Each action plan is summarized below (refer to the draft for complete text).

1. Marine Mammal Protection: The sanctuary serves as the primary habitat for 22 species of marine mammals. The goal of this plan is to expand our understanding of the vulnerability of marine mammals to anthropogenic activity and develop and implement mitigation activities.

2. Seabird Research: Coastal development, predation by humans and other animals, removal of prey through fisheries activity, and marine environment pollution threaten the many seabirds in the sanctuary. The goal of this plan is to understand the abundance, distribution, habitat use, bycatch, contaminant load, and foraging ecology of seabirds, and how SBNMS relates to the wider Gulf of Maine and Atlantic ecosystems.

3. Vessel Traffic: SBNMS sits at the mouth of Massachusetts Bay, which experiences commercial vessel traffic traveling to and from the growing Port of Boston. Sanctuary staff work to mitigate the impacts of the large volume of vessel traffic through technology, reporting, and warnings. The goal of this plan is to monitor vessel traffic and mitigate negative effects on sanctuary resources.

4. Maritime Heritage and Cultural Landscapes: The sanctuary serves as an underwater museum to maritime history with numerous shipwrecks on the seafloor. The sanctuary's efforts in maritime cultural landscapes help us understand the relationships between the people and the sea in the past and present through research and management. The goal of this plan is to understand the broader context of past and present uses of the sanctuary while assessing and protecting maritime heritage resources in the sanctuary.

5. Compatible Uses: Evolving commercial and recreational uses of the sanctuary impact key elements of the sanctuary's landscape. The goal of this plan is to enhance transparency regarding how current and emerging activities are assessed for compatibility while managing sanctuary resources.

6. Climate Change: The goal of this plan is to evaluate climate change impacts on sanctuary resources and incorporate changing conditions in management decisions. Various strategies and efforts for enhanced understanding of climate impacts and synergies will inform decisions on a wide range of sanctuary management, including resource protection, education, and operations.

7. Education and Outreach: A variety of education and outreach programs, tools, and techniques are employed to bring sanctuary information and research to the widest audiences. The goal of this plan is to increase public awareness and understanding of the sanctuary and encourage responsible use and stewardship of its resources.

8. Interagency/Intergovernmental Coordination: NOAA relies on partnerships with other Federal and State agencies as well as collaborations with non-profit, community, research/academic, and many others, for effective management. The goal of this plan is to promote improved management through coordinated partnering with local, State, regional, Tribal, and Federal partners.

9. Sanctuary Advisory Council: The Sanctuary Advisory Council addresses specific management issues and public involvement by developing sound advice for the sanctuary. The goal of this plan is to facilitate an active and engaged community of Sanctuary Advisory Council members to advise the superintendent in carrying out the sanctuary's mission.

10. Research and Monitoring: The sanctuary conducts a robust science program to provide vital information to support management needs. The goal of this plan is to support, promote, and coordinate scientific research, characterization, and long-term monitoring to enhance the understanding of the sanctuary environment and processes, and improve management decision-making for optimal resource management and protection.

11. Soundscape: The sanctuary has an extensive acoustics research program that provides opportunities for partnership and leadership in the development of regional, national, and international policies for managing noise impacts on marine life. The goal of this plan is to maintain the role of SBNMS as a sentinel site for passive acoustic monitoring in the Gulf of Maine, and as a testbed for applying these data to both long-term monitoring of ecosystems and the design of methods to reduce impacts from human activities.

12. Water Quality Monitoring: The exceptional diversity of marine life in the sanctuary depends on good water quality. This action plan addresses the need to collaborate on water quality monitoring and research in the sanctuary to determine whether it can continue to maintain healthy resources.

13. Habitat: Habitat quality in the sanctuary over the last decade has shown changes from both direct interactions, like bottom-contact fishing, and indirect interactions, such as trophic and competitive shifts in population. The goal of this plan is to develop an improved understanding of the condition of major habitat types within the sanctuary to understand their productivity and biodiversity.

14. Ecosystem Services: Sanctuary resources support nearby coastal communities in a variety of ways, and it is important to better understand and quantify the economic and intrinsic values of the sanctuary to natural and human systems. The goal of this plan is to explore the dynamic connections between sanctuary resources and ecosystem services to better inform management decisions.

15. Administration and Infrastructure Capacity: This action plan addresses the necessary operational and administrative activities required for implementing an effective program, including staffing, infrastructure needs, and operational improvements.

B. Regulatory and Boundary Changes

The management plan review process did not identify the need for any regulatory or boundary changes at this time.

C. National Environmental Policy Act Compliance

In accordance with NEPA, on February 13, 2020, NOAA published a notice of intent to prepare an environmental analysis in order to identify and analyze potential impacts associated with adopting and implementing a revised management plan and field activities for SBNMS (85 FR 8213). NOAA's analysis of the draft management plan indicated no significant impacts are expected. Accordingly, NOAA determined the preparation of an EIS would not be necessary, and instead prepared a draft EA, which was made available for public review on November 30, 2021 (86 FR 67923).

For this EA, NOAA evaluated the potential impacts on the human environment of the proposed action and alternatives in compliance with NEPA, as amended (42 U.S.C. 4321 et seq.), and its implementing regulations (40 CFR parts 1500 through 1508). NOAA analyzed two alternatives: the no action alternative and the preferred alternative. The no action alternative would be to continue operating under the existing management plan, without updating it to reflect current resource status or protection priorities. The preferred alternative is adopting and implementing a revised management plan and field activities, which would update strategies to better address resource protection and management needs. NOAA prepared the final EA and finding of no significant impact (FONSI) for this action using the 1978 Council on Environmental Quality (CEQ) regulations because this environmental review began before September 14, 2020, which was the effective date of the amendments to the CEQ regulations implementing NEPA (85 FR 43304, July 16, 2020).

In preparing the final EA, NOAA evaluated and considered all public and agency comments received on the draft management plan and draft EA, and made changes to the management plan and EA as appropriate. NOAA determined that these changes to the management plan did not result in any changes to the determinations of the draft EA with regard to the significance of the impacts. NOAA prepared a FONSI that concluded that implementing the preferred alternative (i.e., adopt and implement a new management plan and field activities) would not have a significant impact on the quality of the human environment. Copies of the final EA and FONSI are available at the website listed in the ADDRESSES section of this notice of availability.

III. Public Comments

NOAA received 56 comments on the Draft Management Plan/Environmental Assessment during the public comment period. These are summarized into 61 topics. NOAA's summary of these comments and relevant responses are provided in Appendix E of the Final Management Plan.

Authority: 16 U.S.C. 1431 et seq.

John Armor,
Director, Office of National Marine Sanctuaries, National Ocean Service, National Oceanic and Atmospheric Administration.

[FR Doc. 2023-16551 Filed 8-7-23; 8:45 am]

BILLING CODE 3510-NK-P